DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 26, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service.

Title: Foodborne Illness Valuation Survey.

OMB Control Number: 0536-NEW.

Summary of Collection: The Economic Research Service (ERS) will be conducting a national Foodborne Illness Valuation Survey. The mission of ERS is to provide timely research and analysis to public and private decision makers on topics related to agriculture, food, the environment, and rural America. ERS has a long history of providing estimates of the cost of foodborne illnesses in the United States. These estimates approximate the public's willingness to pay to prevent foodborne illnesses. This survey is designed to enhance the accuracy of those estimates.

Need and Use of the Information: The purpose of this survey is to estimate individuals' willingness to pay to prevent the direct disutility from illnesses that can be foodborne. This component of willingness to pay is not currently included in ERS cost of foodborne illness estimates due to a lack of research. These estimates can only be obtained using surveys like the one to be fielded. Having these estimates will provide a more complete estimate of the value of preventing foodborne illnesses in the United States.

Description of Respondents: Individuals.

Number of Respondents: 3,000.

Frequency of Responses: one time only.

Total Burden Hours: 2,000.

Levi S. Harrell,
Departmental Information Collection Clearance Officer.

[FR Doc. 2024-27544 Filed 11-22-24; 8:45 am]

BILLING CODE 3410-18-P